ADMINISTRATIVE CONFERENCE OF THE UNITED STATES

Committees on Rulemaking, Regulation, and Adjudication

ACTION: Notice of public meetings.

SUMMARY: Notice is hereby given of public meetings of three committees of the Assembly of the Administrative Conference of the United States (ACUS). Each committee will meet to discuss recommendations for consideration by the full Conference. Complete details regarding each committee's meeting, related research reports, how to attend (including information about remote access and obtaining special accommodations for persons with disabilities), and how to submit comments to the committee can be found in the “Research” section of the ACUS Web site, at http://www.acus.gov.

Comments may be submitted by e-mail to Comments@acus.gov, with the name of the relevant committee in the subject line, or by postal mail to “[Name of Committee] Comments” at the address given below.

ADDRESSES: The meetings will be held at 1120 20th Street, NW., Suite 706 South, Washington, DC 20036.

FOR FURTHER INFORMATION CONTACT: Designated Federal Officer for the individual committee, ACUS, 1120 20th Street, NW., Suite 706 South, Washington, DC 20036; Telephone 202-480-2080.

SUPPLEMENTARY INFORMATION:

Committee on Rulemaking

The Committee on Rulemaking will meet to consider a draft recommendation concerning legal issues agencies face in conducting e-Rulemaking.

Date: Wednesday, April 20, 2011, from 9:30 a.m. to 12:30 p.m.

Designated Federal Officer: Emily F. Schleicher.

Committee on Regulation

The Committee on Regulation will meet to consider a draft recommendation addressing various issues associated with the timing, availability, confidentiality, and impact of comments submitted during agency rulemakings.

Date: Monday, April 25, 2011, from 2 p.m. to 5 p.m.

Designated Federal Officer: Reeve T. Bull.

Committee on Adjudication

The Committee on Adjudication will meet to consider a draft recommendation on the use of video hearings by Federal agencies, examining the costs and benefits of video hearings as they are currently being used and the possibilities for expanding their use by agencies. The Committee on Adjudication will also hear from Lenni B. Benson and Russell Wheeler, consultants for the ACUS study on Immigration Adjudication, who will provide information about the plan for the study and receive comments from the committee.

Date: Wednesday, April 27, 2011, from 9:15 a.m. to 12:15 p.m.

Designated Federal Officer: Funmi E. Olorunnipa.

Dated: March 31, 2011.
Jonathan R. Siegel,
Director of Research & Policy.

[FR Doc. 2011-8031 Filed 4-4-11; 8:45 am]

BILLING CODE 6110-01-P